DEPARTMENT OF THE INTERIOR

Bureau of Land Management

[ES-930-08-1310-00-241A; MSES 47328, MSES 47325, MSES 47320]

(Mississippi); Proposed Reinstatement of Terminated Oil and Gas Leases

Under the provisions of Public Law 97-451, petitions for reinstatement of oil and gas leases MSES 47328, MSES 47325, MSES 47320, Wayne County, DeSota N.F., Mississippi were timely filed and accompanied by all required rentals and royalties accruing from August 1, 1999, the date of termination.

No new leases have been issued affecting the lands. The lessee has agreed to new lease terms for rentals and royalties at rates of $10 per acre and 16⅔ percent. Payment of $500 in administrative fees and a $125 publication fee has been made for each of the leases.

The Bureau of Land Management is proposing to reinstate the leases effective August 1, 1999, subject to the original terms and conditions of the leases and the increased rental and royalty rates cited above. This is accordance with section 31(d) and (e) of the Mineral Leasing Act of 1920, as amended (30 U.S.C. 188(d) and (e)).

FOR FURTHER INFORMATION CONTACT: Ann Dickerson at (703) 440-1512.

Dated: July 7, 2000.
Walter Rewinski,
Acting State Director.

[FR Doc. 00-18518 Filed 7-20-00; 8:45 am]

BILLING CODE 4310-84-M